DEPARTMENT OF JUSTICE

Notice of Lodging Proposed Consent Decree

In accordance with Departmental Policy, 28 CFR 50.7, notice is hereby given that a proposed consent decree in United States v. Lamplight Equestrian Center, Inc., Civil Action No. 00 C 6486 N.D. Ill. 2000), was lodged with the United States District Court for the Northern District of Illinois on August 23, 2002. This proposed Consent Decree concerns a complaint filed by the United States of America against Lamplight Equestrian Center, Inc., pursuant to section 301 of the Clean Water Act, 33 U.S.C. 1311(a), to obtain injunctive relief from and impose civil penalties against the Defendant for causing fill and/or dredged material to be discharged into waters of the United States located at a wetland in Wayne, Illinois.

The proposed Consent Decree prohibits Lamplight from discharging any pollutant into waters of the United States, unless such discharge complies with the provisions of the Clean Water Act and its implementing regulations, and requires the payment of a civil penalty.

The Department of Justice will accept written comments relating to this proposed Consent Decree for thirty (30) days from the date of publication of this notice. Please address comments to Lisa Noller, Assistant U.S. Attorney, 219 S. Dearborn, 5th Floor, Chicago, Illinois, 60604 and refer to this case name and civil action number.

The proposed Consent Decree may be examined at the Clerk's Office, United States District Court for the Northern District of Illinois. In addition, the proposed Consent Decree may be viewed on the World Wide Web at http://www.usdoj.gov/enrd/enrd-home.html.

Lisa M. Noller,
Assistant United States Attorney, United States Attorney's Office, Chicago, Illinois.

[FR Doc. 02-22643 Filed 9-5-02; 8:45 am]

BILLING CODE 4410-15-M